DEPARTMENT OF THE TREASURY

Departmental Offices, Office of Financial Education; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of Financial Education within the Department of the Treasury is soliciting comments on a proposed new collection of information concerning the Community Financial Access Pilot Quarterly Report.

DATES: Written comments should be received on or before September 19, 2008 to be assured of consideration.

ADDRESSES: Direct all written comments to Community Financial Access Pilot, U.S. Department of Treasury, 1500 Pennsylvania Ave., NW., Washington, DC 20220, attention: Louisa Quittman, Director, Community Programs or Louisa.Quittman@do.treas.gov.

FOR FURTHER INFORMATION CONTACT: Requests for additional information or copies of the collection of information form(s) and instructions should be directed to Community Financial Access Pilot, Department of Treasury, 1500 Pennsylvania Ave., NW., Washington DC, 20220 attention Louisa Quittman, Director, Community Programs or Louisa.Quittman@do.treas.gov.

SUPPLEMENTARY INFORMATION: Title: Community Financial Access Pilot Quarterly Report.

Abstract: Information will be collected on a voluntary basis from financial institutions and financial education providers working with the Department of the Treasury on the Community Financial Access Pilot (Pilot). This information is necessary to assess the effectiveness of the Pilot strategies to expand access to financial services and financial education for low- and moderate-income individuals. The information will allow Treasury to assess the effectiveness of each Pilot site strategy and the Pilot as a whole in expanding financial access and financial education.

Current Actions: New collection. The Department of the Treasury will collect information from participating providers on a quarterly basis including the aggregate number of low- and moderate-income individuals who have opened accounts, the aggregate amount in such accounts, and the aggregate number of low- and moderate-income individuals receiving financial education. The Department of the Treasury will not collect any personally identifiable financial information.

Type of Review: New.

Affected Public: Businesses or other for-profit and Not-for-profit institutions.

Estimated Number of Respondents: 100 respondents, 4 responses per year.

Estimated Total Annual Burden Hours: 2000.

Request for Comments: Comments submitted in response to this notice will be summarized and/or included in the request for OMB approval. All comments will become a matter of public record and subject to public disclosure in their entirety. You should submit only comments that you wish to make available publicly. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: July 14, 2008.
Taiya Smith,
Executive Secretary.

[FR Doc. E8-16609 Filed 7-18-08; 8:45 am]

BILLING CODE 4810-25-P